DEPARTMENT OF ENERGY

Federal Energy Regulatory Commission

Combined Notice of Filings

Take notice that the Commission has received the following Natural Gas Pipeline Rate and Refund Report filings:

Docket Numbers: RP20-1252-001.

Applicants: Rover Pipeline LLC.

Description: Compliance filing Compliance with RP20-1252 Order Fuel Filing to be effective 11/1/2020.

Filed Date: 11/2/20.

Accession Number: 20201102-5087.

Comments Due: 5 p.m. ET 11/6/20.

Docket Numbers: RP21-177-000.

Applicants: Texas Eastern Transmission, LP.

Description: § 4(d) Rate Filing: Negotiated Rate—Morgan Stanley 8947599 Release eff 11-1-2020 to be effective 11/1/2020.

Filed Date: 11/2/20.

Accession Number: 20201102-5027.

Comments Due: 5 p.m. ET 11/16/20.

Docket Numbers: RP21-178-000.

Applicants: Equitrans, L.P.

Description: § 4(d) Rate Filing: Expired Negotiated Rate Agreements—12/03/2020 to be effective 12/3/2020.

Filed Date: 11/2/20.

Accession Number: 20201102-5032.

Comments Due: 5 p.m. ET 11/16/20.

Docket Numbers: RP21-179-000.

Applicants: Equitrans, L.P.

Description: § 4(d) Rate Filing: Negotiated Rate Capacity Release Agreements—11/1/2020 to be effective 11/1/2020.

Filed Date: 11/2/20.

Accession Number: 20201102-5033.

Comments Due: 5 p.m. ET 11/16/20.

Docket Numbers: RP21-180-000.

Applicants: Texas Eastern Transmission, LP.

Description: § 4(d) Rate Filing: Negotiated Rate—Range Resources 910916 Release eff 11-1-2020 to be effective 11/1/2020.

Filed Date: 11/2/20.

Accession Number: 20201102-5034.

Comments Due: 5 p.m. ET 11/16/20.

Docket Numbers: RP21-181-000.

Applicants: Rover Pipeline LLC.

Description: § 4(d) Rate Filing: Summary of Negotiated Rate Capacity Release Agreements on 11-2-20 to be effective 11/1/2020.

Filed Date: 11/2/20.

Accession Number: 20201102-5048.

Comments Due: 5 p.m. ET 11/16/20.

Docket Numbers: RP21-182-000.

Applicants: Algonquin Gas Transmission, LLC.

Description: § 4(d) Rate Filing: Negotiated Rate—Yankee Gas 510802 Release eff 11-3-2020 to be effective 11/3/2020.

Filed Date: 11/2/20.

Accession Number: 20201102-5058.

Comments Due: 5 p.m. ET 11/16/20.

Docket Numbers: RP21-183-000.

Applicants: Interstate Gas Supply, Inc., Dominion Energy Solutions, Inc.

Description: Joint Petition For Limited Waiver, et al. of Interstate Gas Supply, Inc., et al. under RP21-183.

Filed Date: 10/30/20.

Accession Number: 20201030-5412.

Comments Due: 5 p.m. ET 11/12/20.

Docket Numbers: RP21-184-000.

Applicants: East Tennessee Natural Gas, LLC.

Description: § 4(d) Rate Filing: Negotiated Rate—Various Releases eff 11-1-20 to be effective 11/1/2020.

Filed Date: 11/2/20.

Accession Number: 20201102-5152.

Comments Due: 5 p.m. ET 11/16/20.

Docket Numbers: RP21-185-000.

Applicants: Transcontinental Gas Pipe Line Company, LLC.

Description: § 4(d) Rate Filing: Rate Schedules GSS, LSS & SS-2 Tracker eff 11/1/2020—Dominion & National Fuel to be effective 11/1/2020.

Filed Date: 11/2/20.

Accession Number: 20201102-5153.

Comments Due: 5 p.m. ET 11/16/20.

Docket Numbers: RP21-186-000.

Applicants: Texas Gas Transmission, LLC.

Description: § 4(d) Rate Filing: Cap Rel Neg Rate Agmt (Kaiser 35448 to Koch 38818) to be effective 11/1/2020.

Filed Date: 11/2/20.

Accession Number: 20201102-5154.

Comments Due: 5 p.m. ET 11/16/20.

Docket Numbers: RP21-187-000.

Applicants: Gulf South Pipeline Company, LLC.

Description: § 4(d) Rate Filing: Cap Rel Neg Rate Agmt (Osaka 46429 to Texla 53267) to be effective 11/1/2020.

Filed Date: 11/2/20.

Accession Number: 20201102-5155.

Comments Due: 5 p.m. ET 11/16/20.

Docket Numbers: RP21-188-000.

Applicants: Natural Gas Pipeline Company of America.

Description: § 4(d) Rate Filing: Amendment to a Negotaited Rate Agreement—Macquarie to be effective 11/1/2020.

Filed Date: 11/2/20.

Accession Number: 20201102-5164.

Comments Due: 5 p.m. ET 11/16/20.

Docket Numbers: RP21-189-000.

Applicants: Chesapeake Energy Marketing, L.L.C.

Description: Petition For Limited Waiver, et al. of Chesapeake Energy Marketing, L.L.C. under RP21-189.

Filed Date: 11/2/20.

Accession Number: 20201102-5188.

Comments Due: 5 p.m. ET 11/9/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2020..
Nathaniel J. Davis, Sr.,
Deputy Secretary.

[FR Doc. 2020-24862 Filed 11-9-20; 8:45 am]

BILLING CODE 6717-01-P